ENVIRONMENTAL PROTECTION AGENCY

[EPA-HQ-OW-2006-0021; FRL-8198-5]

National Management Measures To Control Nonpoint Source Pollution From Hydromodification

AGENCY: Environmental Protection Agency (EPA).

ACTION: Notice of availability.

SUMMARY: EPA is requesting comment on draft technical guidance for managing nonpoint source pollution from hydromodification. The term hydromodification refers to an activity that alters the geometry and physical characteristics of a stream or river in such a way that the flow patterns change. This guidance is intended to provide technical assistance to states, territories, authorized tribes, and the public for managing hydromodification and reducing nonpoint source pollution of surface and ground water. The guidance provides background information about nonpoint source pollution from activities associated with channelization and channel modification, dams, and streambank and shoreline erosion. It discusses the broad concepts of assessing and addressing water quality problems on a watershed level, and it presents up-to-date technical information about how to reduce nonpoint source pollution from hydromodification. Implementation of the guidance will result in increased use of scientifically sound, cost-effective hydromodification management measures, and will support states in their efforts to implement their Nonpoint Source Control Programs.

DATES: Comments must be received on or before October 16, 2006.

ADDRESSES: Submit your comments, identified by Docket ID No. EPA-HQ-OW-2006-0021 by one of the following methods:

— www.regulations.gov: Follow the on-line instructions for submitting comments.

—E-mail: OW-Docket@epa.gov

—Mail: Office of Water Docket, Environmental Protection Agency, Mailcode: 4101T, 1200 Pennsylvania Avenue, NW., Washington, DC 20460

—Hand Delivery: Office of Water Docket, Environmental Protection Agency, Public Reading Room, Room B102, EPA West Building, 1301 Constitution Avenue, NW., Washington, DC. Such deliveries are only accepted during the Docket's normal hours of operation, and special arrangements should be made for deliveries of boxed information.

Instructions: Direct your comments to Docket ID No. EPA-HQ-OW-2006-0021. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Office of Water Docket, Environmental Protection Agency, Public Reading Room, Room B102, EPA West Building, 1301 Constitution Avenue, NW., Washington, DC. The Public Reading Room is open from 8:30 a.m. to 4:30 p.m., Monday through Friday, excluding legal holidays. The telephone number for the Public Reading Room is (202) 566-1744, and the telephone number for the Office of Water Docket is (202) 566-2426.

The complete text of the draft guidance is available on EPA's Internet site on the Nonpoint Source Control Branch's homepage at http://www.epa.gov/owow/nps/pubs.html. Copies of the complete draft guidance can also be obtained upon request.

FOR FURTHER INFORMATION CONTACT: Chris Solloway, Assessment and Watershed Protection Division, Office of Water, Mailcode: 4503T, Environmental Protection Agency, 1200 Pennsylvania Avenue, NW., Washington, DC 20460; telephone number (202) 566-1202; fax number (202) 566-1437; e-mail address: Solloway.chris@epa.gov.

SUPPLEMENTARY INFORMATION:

I. General Information

A. Interested Entities

Entities potentially interested in today's notice are those that manage watersheds potentially affected by hydromodification. Categories and entities interested in today's notice include:

Category | Examples of interested entities
State/Local/Tribal Government | Water Quality Officials, Public Land Management Officials, Association of State and Interstate Water Pollution Control Administrators.
Federal Government | Army Corps of Engineers, Natural Resources Conservation Service (USDA), Forest Service (USDA), National Oceanic and Atmospheric Administration, Department of Transportation.
Non-government organizations | Resource Management Associations, Trade Group Associations, Professional Associations, Environmental Groups.

This table is not intended to be exhaustive, but rather provides a guide for readers regarding entities likely to be interested in this notice. This table lists the types of entities that EPA is aware could potentially be interested in this notice. Other types of entities not listed in the table could also be interested.

B. What Should I Consider as I Prepare My Comments for EPA?

1. Submitting CBI. Do not submit this information to EPA through www.regulations.gov or e-mail. Clearly mark the part or all of the information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

In 1993, under the authority of section 6217(g) of the Coastal Zone Act Reauthorization Amendments, EPA issued Guidance Specifying Management Measures for Sources of Nonpoint Pollution in Coastal Waters. That guidance document details management measures appropriate for the control of five categories of nonpoint sources of pollution in the coastal zone: agriculture, forestry, urban areas, marinas and recreational boating, and hydromodification. The document also includes management measures for wetlands, riparian areas, and vegetated treatment systems because they are important to the abatement of nonpoint source pollution in coastal waters. States and territories were required to adopt measures “in conformity” with the coastal management measures guidance for their Coastal Nonpoint Pollution Control Programs.

State, territory, and tribal water quality assessments continue to identify nonpoint source pollution as a major cause of degradation in surveyed waters nationwide. In 1987, Congress enacted section 319 of the Clean Water Act to establish a national program to control nonpoint sources of water pollution. Under section 319, states, territories, and tribes address nonpoint source pollution by assessing the nonpoint source pollution problems within the state, territory, or tribal lands; identifying the sources of pollution; and implementing management programs to control the pollution. Section 319 also authorizes EPA to award grants to states, territories, and tribes to assist them in implementing management programs that EPA has approved. Program implementation includes nonregulatory and regulatory programs, technical assistance, financial assistance, education, training, technology transfer, and demonstration projects. In fiscal year 2005, Congress appropriated and EPA awarded approximately $207 million for state nonpoint source management program grants.

The 1993 management measures guidance focused on conditions of and examples from the coastal zone. The draft national management measures guidance is intended to expand the focus nationwide to provide technical guidance on effective measures for managing hydromodification for the abatement of nonpoint source pollution. Although the practices detailed in the 1993 coastal guidance apply generally to inland areas, EPA has recognized the utility of developing and publishing technical guidance that explicitly addresses nonpoint source pollution on a nationwide basis. Moreover, additional information and examples from research and experience to date with implementation of the management measures are available to enrich the national guidance. These changes have helped to prompt the revision and expansion of the hydromodification chapter of the 1993 guidance.

III. Scope of the Draft Hydromodification Guidance—Sources of Nonpoint Source Pollution Addressed

The draft technical guidance continues to focus on the major sources of pollution from hydromodification identified for the 1993 coastal guidance by EPA in consultation with a number of other Federal agencies and other leading national experts, including several experts from the U.S. Army Corps of Engineers. Specifically, the guidance identifies management measures for the following:

Channelization and Channel Modification

• Physical and Chemical Characteristics of Surface Water

• Instream and Riparian Habitat Restoration

• Dams

• Erosion and Sediment Control

• Chemical and Pollutant Control

• Protection of Surface Water Quality and Instream and Riparian Habitat

• Streambank and Shoreline Erosion

• Eroding Streambanks and Shorelines

IV. Approach Used To Develop Guidance

The draft management measures guidance is based in large part on the 1993 coastal guidance. The coastal guidance was developed using a workgroup approach to draw upon technical expertise within other Federal agencies as well as state water quality and coastal zone management agencies.

The 1993 text has been expanded to include information on the application and effectiveness of hydromodification BMPs from recent research, the cost of installing BMPs, watershed-scale and ecological impacts of hydromodification activities, and certification programs for personnel involved in construction and dam removal.

V. Request for Comments

EPA is soliciting comments on the draft guidance on nonpoint source management measures for hydromodification. The Agency is soliciting additional information and supporting data on the measures specified in this guidance and on additional measures that may be as effective or more effective in controlling nonpoint source pollution from hydromodification. EPA requests that commenters focus their comments on the technical soundness of the draft management measures guidance.

Dated: July 6, 2006.
Benjamin H. Grumbles,
Assistant Administrator, Office of Water.

[FR Doc. E6-11248 Filed 7-14-06; 8:45 am]

BILLING CODE 6560-50-P